DEPARTMENT OF AGRICULTURE

Commodity Credit Corporation

Types and Quantities of Agricultural Commodities Available for Donation Overseas Under Section 416(b) of the Agricultural Act of 1949, as Amended, in Fiscal Year 2005

AGENCY: Commodity Credit Corporation, USDA.

ACTION: Notice.

SUMMARY: On November 2, 2004, the President, Commodity Credit Corporation (CCC), who is the Under Secretary of Agriculture for Farm and Foreign Agricultural Services, determined that 65,000 metric tons of non-fortified, low heat, nonfat dry milk in CCC inventory will be made available for donation overseas under section 416(b) of the Agricultural Act of 1949, as amended (“section 416(b)”), during fiscal year 2005. Of this 65,000 metric tons, approximately 50,000 metric tons will be used to supply existing multi-year agreements and proposals that were approved but not finalized in agreements in fiscal year 2004. CCC will solicit proposals under section 416(b) for the use of the balance and give priority to proposals that involve direct feeding or would have other direct humanitarian benefits.

FOR FURTHER INFORMATION CONTACT: William Hawkins, Director, Program Administration Division, FAS, USDA, (202) 720-3241.

Dated: November 3, 2004.
A. Ellen Terpstra,
Vice President, Commodity Credit Corporation.

[FR Doc. 04-25043 Filed 11-9-04; 8:45 am]

BILLING CODE 3410-10-M